DEPARTMENT OF ENERGY

Federal Energy Regulatory Commission

Combined Notice of Filings #1

Take notice that the Commission received the following electric corporate filings:

Docket Numbers: EC23-131-000.

Applicants: Cascade Energy Storage, LLC, Sierra Energy Storage, LLC, BRP Capital & Trade LLC, ENGIE Flexible Generation NA LLC.

Description: Joint Application for Authorization Under Section 203 of the Federal Power Act of Cascade Energy Storage, LLC, et al.

Filed Date: 9/14/23.

Accession Number: 20230914-5154.

Comment Date: 5 p.m. ET 10/5/23.

Docket Numbers: EC23-132-000.

Applicants: Earp Solar, LLC, BCD 2023 Fund 1 Lessee, LLC.

Description: Joint Application for Authorization Under Section 203 of the Federal Power Act of Earp Solar, LLC.

Filed Date: 9/14/23.

Accession Number: 20230914-5156.

Comment Date: 5 p.m. ET 10/5/23.

Take notice that the Commission received the following exempt wholesale generator filings:

Docket Numbers: EG23-288-000.

Applicants: Maverick Clean Energy Center, LLC.

Description: Maverick Clean Energy Center, LLC. submits Notice of Self-Certification of Exempt Wholesale Generator Status.

Filed Date: 9/14/23.

Accession Number: 20230914-5087.

Comment Date: 5 p.m. ET 10/5/23.

Docket Numbers: EG23-289-000.

Applicants: Harris Spencer BESS, LLC.

Description: Harris Spencer BESS, LLC. submits Notice of Self-Certification of Exempt Wholesale Generator Status.

Filed Date: 9/14/23.

Accession Number: 20230914-5092.

Comment Date: 5 p.m. ET 10/5/23.

Docket Numbers: EG23-290-000.

Applicants: Brazoria Winmil BESS, LLC.

Description: Brazoria Winmil BESS, LLC. submits Notice of Self-Certification of Exempt Wholesale Generator Status.

Filed Date: 9/14/23.

Accession Number: 20230914-5094.

Comment Date: 5 p.m. ET 10/5/23.

Docket Numbers: EG23-291-000.

Applicants: Harris CenterPoint BESS, LLC.

Description: Harris CenterPoint BESS, LLC. submits Notice of Self-Certification of Exempt Wholesale Generator Status.

Filed Date: 9/14/23.

Accession Number: 20230914-5100.

Comment Date: 5 p.m. ET 10/5/23.

Take notice that the Commission received the following electric rate filings:

Docket Numbers: ER15-1365-004.

Applicants: Morris Cogeneration, LLC.

Description: Compliance filing: Compliance to 593 to be effective N/A.

Filed Date: 9/15/23.

Accession Number: 20230915-5125.

Comment Date: 5 p.m. ET 10/6/23.

Docket Numbers: ER23-2843-000.

Applicants: PJM Interconnection, L.L.C.

Description: § 205(d) Rate Filing: Original ISA, Service Agreement No. 7072; Queue No. AE2-299 to be effective 8/16/2023.

Filed Date: 9/15/23.

Accession Number: 20230915-5011.

Comment Date: 5 p.m. ET 10/6/23.

Docket Numbers: ER23-2844-000.

Applicants: PJM Interconnection, L.L.C.

Description: Tariff Amendment: Notice of Cancellation of WMPA, Service Agreement No. 5803; Queue No. AF2-270 to be effective 11/15/2023.

Filed Date: 9/15/23.

Accession Number: 20230915-5016.

Comment Date: 5 p.m. ET 10/6/23.

Docket Numbers: ER23-2845-000.

Applicants: Public Service Company of Colorado.

Description: § 205(d) Rate Filing: SPS Attachment O—CIAC Workpaper Filing to be effective 1/1/2023.

Filed Date: 9/15/23.

Accession Number: 20230915-5033.

Comment Date: 5 p.m. ET 10/6/23.

Docket Numbers: ER23-2847-000.

Applicants: Midcontinent Independent System Operator, Inc.

Description: § 205(d) Rate Filing: 2023-09-15_ICAP Deferral Clean-Up Filing to be effective 11/15/2023.

Filed Date: 9/15/23.

Accession Number: 20230915-5050.

Comment Date: 5 p.m. ET 10/6/23.

Docket Numbers: ER23-2848-000.

Applicants: Southwest Power Pool, Inc.

Description: § 205(d) Rate Filing: 4128 Omaha Public Power District Sponsored Upgrade Agreement to be effective 8/23/2023.

Filed Date: 9/15/23.

Accession Number: 20230915-5052.

Comment Date: 5 p.m. ET 10/6/23.

Docket Numbers: ER23-2849-000.

Applicants: PJM Interconnection, L.L.C.

Description: Tariff Amendment: Notice of Cancellation of WMPA, SA No. 5726; Queue No. AE1-188/AF1-224 to be effective 11/15/2023.

Filed Date: 9/15/23.

Accession Number: 20230915-5054.

Comment Date: 5 p.m. ET 10/6/23.

Docket Numbers: ER23-2850-000.

Applicants: New York Independent System Operator, Inc.

Description: § 205(d) Rate Filing: NYISO 205: LGIA Sunrise Offshore Wind Project SA2795 (CEII) to be effective 8/31/2023.

Filed Date: 9/15/23.

Accession Number: 20230915-5058.

Comment Date: 5 p.m. ET 10/6/23.

Docket Numbers: ER23-2851-000.

Applicants: California Independent System Operator Corporation.

Description: § 205(d) Rate Filing: 2023-09-15 New DTBAOA and Terminate DSHBAOA—CAISO and APS to be effective 11/15/2023.

Filed Date: 9/15/23.

Accession Number: 20230915-5072.

Comment Date: 5 p.m. ET 10/6/23.

Docket Numbers: ER23-2852-000.

Applicants: Airport Solar LLC.

Description: § 205(d) Rate Filing: Revised Market-Based Rate Tariff Filing to be effective 11/15/2023.

Filed Date: 9/15/23.

Accession Number: 20230915-5076.

Comment Date: 5 p.m. ET 10/6/23.

Docket Numbers: ER23-2853-000.

Applicants: Arroyo Solar LLC.

Description: § 205(d) Rate Filing: Revised Market-Based Rate Tariff Filing to be effective 11/15/2023.

Filed Date: 9/15/23.

Accession Number: 20230915-5079.

Comment Date: 5 p.m. ET 10/6/23.

Docket Numbers: ER23-2854-000.

Applicants: Arroyo Energy Storage LLC.

Description: § 205(d) Rate Filing: Revised Market-Based Rate Tariff Filing to be effective 11/15/2023.

Filed Date: 9/15/23.

Accession Number: 20230915-5080.

Comment Date: 5 p.m. ET 10/6/23.

Docket Numbers: ER23-2855-000.

Applicants: Assembly Solar III, LLC.

Description: § 205(d) Rate Filing: Revised Market-Based Rate Tariff Filing to be effective 11/15/2023.

Filed Date: 9/15/23.

Accession Number: 20230915-5081.

Comment Date: 5 p.m. ET 10/6/23.

Docket Numbers: ER23-2856-000.

Applicants: Willow Springs Solar, LLC.

Description: § 205(d) Rate Filing: Willow Springs Solar, LLC to be effective 11/15/2023.

Filed Date: 9/15/23.

Accession Number: 20230915-5082.

Comment Date: 5 p.m. ET 10/6/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 15, 2023.
Debbie-Anne A. Reese,
Deputy Secretary.

[FR Doc. 2023-20469 Filed 9-20-23; 8:45 am]

BILLING CODE 6717-01-P